ENVIRONMENTAL PROTECTION AGENCY

40 CFR Part 52

[EPA-R03-OAR-2016-0783; FRL-9961-03-Region 3]

Approval and Promulgation of Air Quality Implementation Plans; Maryland; Regional Haze Best Available Retrofit Technology Measure for Verso Luke Paper Mill

AGENCY: Environmental Protection Agency (EPA).

ACTION: Proposed rule.

SUMMARY: The Environmental Protection Agency (EPA) is proposing to approve a state implementation plan (SIP) revision submitted by the State of Maryland. This revision pertains to a best available retrofit technology (BART) alternative measure for the Verso Luke Paper Mill (the Mill) submitted by the State of Maryland. Maryland requests new emissions limits for sulfur dioxide (SO2) and nitrogen oxides (NOX) for power boiler 24 at the Mill and a SO2 cap on tons emitted per year for power boiler 25, while also requesting removal of the specific BART emission limits for SO2 and NOX from power boiler 25. The alternative BART measure will provide greater reasonable progress for SO2 and NOX for regional haze by resulting in additional emission reductions of 2,055 tons per year (tpy) of SO2 and an additional 804 tpy of NOX than would occur through the previously approved BART measure for power boiler 25, a BART subject source. This action is being taken under the Clean Air Act (CAA).

DATES: Written comments must be received on or before June 29, 2017.

ADDRESSES: Submit your comments, identified by Docket ID No. EPA-R03-OAR-2016-0783 at http://www.regulations.gov, or via email to rehn.brian@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the Web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Irene Shandruk, (215) 814-2166, or by email at shandruk.irene@epa.gov.

SUPPLEMENTARY INFORMATION:

I. Background

Regional haze is impairment of visual range or colorization caused by air pollution, principally by fine particulate matter (PM2.5), produced by numerous sources and activities, located across a broad regional area. The sources include, but are not limited to, major and minor stationary sources, mobile sources, and area sources including non-anthropogenic sources. These sources and activities may emit PM2.5 (e.g., sulfates, nitrates, organic carbon, elemental carbon, and soil dust), and their precursors (e.g., SO2, NOX, and in some cases, ammonia and volatile organic compounds). Fine particulate matter can also cause serious health effects and mortality in humans, and contributes to environmental effects such as acid deposition and eutrophication.

In the CAA Amendments of 1977, Congress established a program to protect and improve visibility in the Nation's national parks and wilderness areas. See CAA section 169A. Congress amended the visibility provisions in the CAA in 1990 to focus attention on the problem of regional haze. See CAA section 169B. EPA promulgated regional haze regulations (RHR) in 1999 to implement sections 169A and 169B of the CAA. These regulations require states to develop and implement plans to ensure reasonable progress towards improving visibility in mandatory Class I Federal areas.¹ See 64 FR 35714 (July 1, 1999); see also 70 FR 39104 (July 6, 2005) and 71 FR 60612 (October 13, 2006).

¹ While Maryland has no Class I areas within its borders, there are several Class I areas nearby including Dolly Sods Wilderness Area and Otter Creek Wilderness Area in West Virginia; Brigantine Wilderness in New Jersey; Great Smoky Mountains National Park in North Carolina and Tennessee; James River Face and Shenandoah National Park in Virginia; Linville Gorge in North Carolina; and Mammoth Cave National Park in Kentucky.

The RHR requires each state's regional haze implementation plan to contain emission limitations representing best available retrofit technology (BART) and schedules for compliance with BART for each source subject to BART, unless the state demonstrates that an emissions trading program or other alternative measure will achieve greater reasonable progress toward natural visibility conditions. The requirements for alternative measures are established at 40 CFR 51.308(e)(2).

In addition to demonstrating greater reasonable progress towards improving visibility, among other things, the RHR also requires that all necessary emission reductions from a BART alternative take place during the period of the first long-term strategy for regional haze (i.e., 2008-2018) and requires a demonstration that the emission reductions from the alternative measure will be surplus to the reductions from measures adopted to meet CAA requirements as of the baseline date of the SIP. 40 CFR 51.308(e)(2). The baseline date for regional haze SIPs is 2002. See Memorandum from Lydia Wegman and Peter Tsirigotis, 2002 Base Year Emission Inventory SIP Planning: 8-hr Ozone, PM2.5, and Regional Haze Programs, November 8, 2002. http://www.epa.gov/ttn/oarpg/t1/memoranda/2002bye-gm.pdf. See 79 FR 56322, 56328-29 (September 19, 2014) (proposing approval of alternative BART for Arizona SIP).

Maryland's regional haze SIP was submitted by the Maryland Department of the Environment (MDE) on February 13, 2012 and approved by EPA in June 2012. See 77 FR 39938 (June 13, 2012). This regional haze SIP included, among other measures, BART emission limits for power boiler 25 at the Verso Luke Paper Mill because power boiler 25 was a BART subject source. The BART emission limits which EPA had approved in June 2012 for power boiler 25 were 0.44 pounds per million British thermal units (lb/MMBtu) for SO2, a 30-day rolling limit of 0.40 lb/MMBtu for NOX, and 0.07 lb/MMBtu for particulate matter (PM).²

² While EPA's approval of Maryland's regional haze SIP in 2012 included a PM limit for power boiler 25 of 0.07 lb/MMBtu, Maryland is not seeking to revise that PM limit for BART on power boiler 25 and thus the PM limit of 0.07 lb/MMBtu remains on power boiler 25. See 77 FR 39938. This rulemaking action pertains to adjusting the BART limits for SO2 and NOX for power boiler 25.

II. Summary of SIP Revision and EPA's Analysis

On November 28, 2016, the State of Maryland through the MDE submitted to EPA a revision to the Maryland regional haze SIP consisting of a BART alternative measure for Verso Luke Paper Mill. The SIP revision seeks to revise the BART strategy for the Verso Luke Paper Mill, including specifically the emission limits for power boiler 25 for SO2 and NOX.

MDE states that Verso Luke Paper Mill is eliminating the use of coal as a source of fuel used in power boiler 24 and replacing it with natural gas. MDE's SIP revision submittal seeks alternative BART emission limits for SO2 and NOX for power boiler 24, and seeks to remove the previously approved BART requirements for SO2 and NOX from power boiler 25 and replace them with new, alternative emission requirements. Specifically, for power boiler 24 at the Mill, Maryland's SIP revision seeks to establish (1) a new BART emission limit of 0.28 lb/MMBtu, measured as an hourly average for SO2; (2) a new BART emission limit of 0.4 lb/MMBtu, measured on a 30-day rolling average for NOX; and (3) associated monitoring, recordkeeping and reporting requirements. For power boiler 25, this SIP revision seeks to: (1) Remove the SO2 BART emission limit approved by EPA in June 2012 and seeks to establish an annual SO2 cap of 9,876 tons measured on a 12-month rolling average; (2) remove the NOX BART emission limit but retain existing requirements under COMAR 26.11.14.07 applicable to the power boiler; and (3) impose associated monitoring, recordkeeping, and reporting requirements. The BART requirements for PM approved by EPA in June 2012 on power boiler 25 would remain unchanged on power boiler 25.

MDE's analysis demonstrates that the alternative SO2 BART measure (i.e. new SO2 emission limit on power boiler 24; removal of approved SO2 BART limit and new annual SO2 cap on power boiler 25) would provide an additional 2,055 tpy in SO2 emissions reductions (or 20% more emission reductions) than the tons per year to be reduced by the currently approved BART requirements on power boiler 25. MDE's analysis also shows that the alternative NOX BART measure on power boiler 24 (with removed BART limit on power boiler 25) would provide an additional 804 tpy in NOX emission reductions than the currently approved BART requirements on power boiler 25. Finally, MDE's analysis shows that the alternative NOX BART measure on power boiler 24 would provide a 227 tons per ozone season NOX benefit than would the currently approved BART requirements on power boiler 25.

Thus, with the additional SO2 and NOX emission reductions per year, EPA finds that the alternative SO2 and NOX BART emission limits on power boiler 24 (with the SO2 tpy cap on power boiler 25) will provide for greater reasonable progress toward achieving natural visibility conditions than would be achieved through the currently approved BART emission limits on power boiler 25. EPA also finds the emission reductions from the new limits on power boiler 24 (and SO2 tpy cap on power boiler 25) have been implemented before the end of the first regional haze planning period (i.e., 2018). In addition, the emission reductions from the proposed BART emission limits for power boiler 24 for SO2 and NOX are surplus to reductions resulting from CAA requirements as of the baseline date of the SIP or 2002. More information on Maryland's SIP submittal and on EPA's analysis of emission reductions from the alternative BART measure (including discussion of the reductions as implemented and surplus) is provided in the Technical Support Document (TSD) which is available online at www.regulations.gov for this rulemaking. Therefore, EPA finds Maryland's SIP revision for the alternative BART emission limits for SO2 and NOX for power boiler 24 (and SO2 cap on power boiler 25) meet the requirements for an alternative BART measure in accordance with CAA section 169A and as established at 40 CFR 51.308(e)(2) in the RHR.

In addition, EPA finds that this SIP revision, which seeks to remove BART SO2 and NOX emission limits for power boiler 25 from the approved Maryland regional haze SIP, meets the requirements of CAA section 110(l) and will not interfere with attainment and maintenance of any NAAQS, reasonable further progress or any other applicable CAA requirement. EPA finds that Maryland has demonstrated that additional SO2 and NOX emission reductions will be achieved each year with the alternative BART emission limits on power boiler 24 and SO2 tpy cap on power boiler 25, and as such, no interference with reasonable further progress or any NAAQS is expected. As discussed previously, the alternative BART emission limits on power boiler 24 meet other CAA requirements in section 169A and 40 CFR 51.308(e)(2). More information on Maryland's SIP submittal and demonstration of greater reasonable progress from the alternative BART measure is provided in the TSD under Docket ID No. EPA-R03-OAR-2016-0783 which is available online at www.regulations.gov for this rulemaking. EPA is soliciting public comments on the issues discussed in this document. These comments will be considered before taking final action.

III. Proposed Action

EPA has reviewed Maryland's SIP revision seeking an alternative BART measure and emission limits for power boiler 24 (and SO2 tpy cap on power boiler 25) compared to EPA's previously federally enforceable BART limits for SO2 and NOX on power boiler 25. EPA finds that the alternative BART measure for Verso Luke Paper Mill with SO2 and NOX limits as alternative BART on power boiler 24 will result in greater emission reductions in SO2 and NOX from the facility and provide greater reasonable progress and greater visibility improvement than the currently approved BART measure which applies solely to power boiler 25. Specifically, the conversion of power boiler 24 from a coal-burning boiler to a natural gas power boiler with new emission limits contained within a federally enforceable permit is expected to result in fewer SO2 and NOX emissions from the Mill. MDE's analysis shows that in comparison to the currently approved BART requirements on power boiler 25, the alternative BART measure on power boiler 24 of 0.28 lb/MMBtu, measured as an hourly average for SO2 and 0.4 lb/MMBtu, measured on a 30-day rolling average for NOX with the 9,876 SO2 cap on power boiler 25, would provide (1) an additional 2,055 tpy in SO2 emissions reductions; (2) an additional 804 tpy in NOX emission reductions; and (3) a 227 tons per ozone season NOX benefit. In addition, EPA finds that the alternative BART emission limits will result in reductions surplus to CAA requirements as of 2002 and will be implemented prior to the end of 2018. EPA proposes to approve the November 28, 2016 SIP submittal as it meets the requirements in CAA section 169A and in 40 CFR 51.308(e)(2). EPA also proposes to incorporate by reference the permit requirements for power boilers 24 and 25 issued August 17, 2016 for the Mill, which include alternative emission requirements, as well as monitoring, recordkeeping and reporting requirements.

EPA also finds that this SIP revision meets the requirements of CAA section 110(l) and will not interfere with attainment and maintenance of any NAAQS, reasonable further progress or any other applicable CAA requirement. Therefore, EPA proposes to approve Maryland's November 28, 2016 SIP revision submittal as it meets CAA requirements.

IV. Incorporation by Reference

In this proposed rule, EPA is proposing to include in a final EPA rule regulatory text that includes incorporation by reference. In accordance with requirements of 1 CFR 51.5, EPA is proposing to incorporate by reference the permit requirements for power boilers 24 and 25 issued August 17, 2016 for Verso Luke Paper Mill, which include alternative emission requirements, as well as monitoring, recordkeeping and reporting requirements for power boilers 24 and 25 as discussed in section II of this notice of proposed rulemaking and the TSD. EPA has made, and will continue to make, these materials generally available through http://www.regulations.gov and/or at the EPA Region III Office (please contact the person identified in the FOR FURTHER INFORMATION CONTACT section of this preamble for more information).

V. Statutory and Executive Order Reviews

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposed rule, pertaining to alternative BART emission limits for Verso Luke Paper Mill, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Nitrogen dioxide, Ozone, Particulate matter, Reporting and recordkeeping requirements, Sulfur oxides, Volatile organic compounds.

Authority: 42 U.S.C. 7401 et seq.

Dated: March 6, 2017.
Cecil Rodrigues,
Acting Regional Administrator, Region III.

[FR Doc. 2017-10913 Filed 5-26-17; 8:45 am]

BILLING CODE 6560-50-P